DEPARTMENT OF THE INTERIOR

Fish and Wildlife Service

[FWS-HQ-NWRS-2024-N013; FF09M21200-245-FXMB1231099BPP0; OMB Control Number 1018-0193]

Agency Information Collection Activities; Submission to the Office of Management and Budget; U.S. Fish and Wildlife Service Agreements With Friends Organizations

AGENCY: Fish and Wildlife Service, Interior.

ACTION: Notice of information collection; request for comment.

SUMMARY: In accordance with the Paperwork Reduction Act of 1995, we, the U.S. Fish and Wildlife Service (Service), are proposing to renew an information collection with revisions.

DATES: Interested persons are invited to submit comments on or before May 22, 2024.

ADDRESSES: Written comments and recommendations for the proposed information collection should be submitted within 30 days of publication of this notice at https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-0193” in the subject line of your comments.

FOR FURTHER INFORMATION CONTACT: To request additional information about this ICR, contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

On September 25, 2023, we published in the Federal Register (88 FR 65741) a notice of our intent to request that OMB approve this information collection. In that notice, we solicited comments for 60 days, ending on November 24, 2023. In an effort to increase public awareness of, and participation in, our public commenting processes associated with information collection requests, the Service also published the Federal Register notice on Regulations.gov (Docket No. FWS-HQ-NWRS-2023-0135). We received the following five comments in response to that notice:

Comment 1: Electronic comment submitted via Regulations.gov (FWS-HQ-NWRS-2023-0135-0002) by Jean Publie on 09/25/2023. The commenter requests that the Friends program be shut down and is inherently biased toward insider groups.

Agency Response to Comment 1: The commenter did not address the information collection requirements; therefore, no response is required.

Comment 2: Anonymous electronic comment submitted via Regulations.gov (FWS-HQ-NWRS-2023-0135-0006) received 11/19/2023. The commenter asked us not to kill any wildlife.

Agency Response to Comment 2: The commenter did not address the information collection requirements; therefore, no response is required.

Comment 3: Electronic comment submitted via Regulations.gov (FWS-HQ-NWRS-2023-0135-0007) by A. Hill on 11/23/2023. The commenter states:

“The proposed USFWS collection of information from Friends groups is supposedly being done to “reduce paperwork” of citizens under the Paperwork Reduction Act. At least our Friends group is already working very closely with our local USFWS manager, providing all relevant information. We provide all required information to the Internal Revenue Service (IRS), and that information is provided to members and our local USFWS manager. We provide all financial information to our membership, and any and all of that information is available to the public upon request. We are a small, all volunteer organization—absolutely no paid staff. All but a minimum portion of our raised money goes directly to refuge support, education programs, and other mission relevant expenses. It is already hard enough to recruit executive officers, particularly to positions overseeing record keeping. Any additional reporting requirements would further discourage participation. If your goal is to cripple smaller friends groups, your proposal is right on point. Otherwise, unless there is reason for concern, let the refuge manager and friends group work out reporting requirements.”

Agency Response to Comment 3: We must collect Friends information per the September 2020 audit by the Department of the Interior (DOI) Office of the Inspector General (OIG), who was concerned that the information was not available for the program as a whole. No information will be requested that isn't already being collected by the Friends and that should already be regularly reported to the refuge manager. We will allow the refuge manager and Friends to determine who reports the information to the Service. This standard reporting form will allow the Service to tell a fuller story of the contributions of all Friends across the country.

Comment 4: Electronic comment submitted via Regulations.gov (FWS-HQ-NWRS-2023-0135-0008) by Charles Paxton on 11/23/2023. The commenter states:

“I am a board member at large for the friends of Black Bayou Lake NWR group, I'm writing on my own behalf as an individual in this instance and not representing the board with these opinions. I think it would be quite onerous for small groups to have to report in detail as if they were larger groups. I warn against that course. Our members are all volunteers and most of them are professionals working in other business areas and while they bring a wide variety of skills with them to the group, they may have very little time nor inclination for extra bureaucracy or other impositions. I wouldn't want any extra imposition to be made upon our officers.

I don't see that we would benefit from it really. Furthermore when questioning the relevance of such information collection in the document, I have to say that I didn't see anything in the proposal that justified the use of it therefore I do question the validity of collecting it.

Yes, I agree there's a need to develop future leaders within our organization but I'm not sure we need to be very formal about that, rather we attract people who are self-motivated. Remote micromanagement we don't need. The covid pandemic eroded our active support base but ours is a community conservation project and our leadership has been recently refreshed. NB there is already a national mentoring organization called ANROSP that is available to us. Thank you for seeking our opinions.”

Agency Response to Comment 4: We will not seek any information that is not already being collected and reported to the refuge manager and the IRS. The justification for the collection is in part because it is being required by the OIG per the September 2020 audit, and in part because we will be able to paint a full picture of the contributions of Friends on a national scale, which has never been possible without any standardized data collection.

Comment 5: Electronic comment submitted via Regulations.gov (FWS-HQ-NWRS-2023-0135-0009) by Charles Paxton on 11/23/2023. The commenter states:

“The new regulations proposed here are not inclusive and do not facilitate improvements applicable to all friends groups, specifically those which operate and are managed by volunteers alone. Additionally, the proposal does not go into specifics regarding its “non-form” collection of information. And the stringency of the collection of the reports of activity from friends groups, applicable to what we assume is all friends groups, does not take into account that some groups are poorly staffed, underfunded, volunteer only, and limited in its capacity to report on the standards of groups who are of greater means and ability.”

Agency Response to Comment 5: We will not collect any information outside of the new form. We are establishing a tiered system for what is expected to be reported for smaller groups versus larger ones, with no information being requested that should not already be collected per guidelines from the IRS for any 501(c)3 nonprofit organization.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The U.S. Fish and Wildlife Service (Service) enters into agreements and partnerships with nonprofit Friends groups to facilitate and formalize collaboration between the parties in support of mutual goals and objectives as authorized by:

(1) The Fish and Wildlife Act of 1956 (16 U.S.C. 742a-742j);

(2) The National Wildlife Refuge System Administration Act of 1966 (16 U.S.C. 668dd-ee), as amended;

(3) The Refuge Recreation Act of 1962 (16 U.S.C. 460k et seq.), as amended;

(4) The Anadromous Fish Conservation Act (16 U.S.C. 757a-757g), as amended;

(5) The Fish and Wildlife Coordination Act of 1934 (16 U.S.C. 661-667e), as amended;

(6) The National Wildlife Refuge System Volunteer and Community Partnership Enhancement Act of 1998 (16 U.S.C. 742f), as amended; and

(7) The National Fish Hatchery System Volunteer Act of 2006 (16 U.S.C. 760aa), as amended.

In September 2020, the OIG delivered its final audit report of the Service's Friends Program. The audit outlined six recommendations, including a requirement for Friends groups to report related data to the Service on a regular basis. In order to collect this information legally, we must complete the Information Collection Clearance process. The Service addressed and completed all audit recommendations and commitments (other than completion of the Information Collection Clearance process). For example, the Service amended and reissued agency policies (Service Manual chapters 633 FW 1, 633 FW 2, 633 FW 3, and 633 FW 4, available at https://www.fws.gov/program/policy-regulations/library) which guide the program. We also trained Service staff and Friends on the new policies.

The Service uses the information collected to establish efficient and effective partnerships and working relationships with nonprofit Friends organizations. The agreements provide a method for the Service to legally accept donations of funds and other contributions by people and organizations through partnerships with nonprofit (and non-Federal) Friends organizations. The partnership agreements identify roles and responsibilities and identify mutual projects over the term of the agreement. Quarterly reviews provide an opportunity to update contact and financial information. Annual reporting documents contributions to the Service.

The Service utilizes a standardized agreement that describes the substantial involvement of both parties in mutually agreed-upon activities and ensures that both parties have a mutual understanding of their respective roles, responsibilities, rights, expectations, and requirements within the partnership. The agreement, preapproved by the DOI Office of the Solicitor, provides the suggested language common to most Service Friends partnerships. The content is based on DOI and Service policies, but the Friends and Service sites/programs may thoughtfully add and delete certain language to meet their varying partnership roles and responsibilities wherever Department and Service policies do not dictate otherwise. For use of Service property, we also use a supplemental partnership agreement, which provides additional terms and responsibilities beyond the general terms of the partnership agreement and is required only for those Friends groups that use Service land, facilities, or equipment.

The partnership agreement and supplemental agreement are effective for 5 years, with four annual modification options during the 5-year period. Each time the agreement is up for 5-year renewal, the Refuge or Fish Hatchery Project Leader and the Friends President or Board will meet to review, modify, and sign the agreement, as described above. For an agreement to become effective or be renewed, the Regional Director (or designee) must review, approve, and sign a new agreement every 5 years.

The Service collects the information listed below about the administration of the Friends Program to verify compliance with agency policy and to allow the Service to gauge the impact of the program as a whole. All information collected will be kept in a secure manner by the Service and will not be shared except as an aggregate report. If the Service wishes to share specific details to illustrate the strength of the Friends program, individual groups will be asked for their permission to do so.

In addition to the partnership agreement and supplemental agreement, and subsequent renewals of the agreements, the Service collects the following information about the administration of the Friends Program:

• Basic program information documentation, to include documents such as IRS determination letters recognizing an organization as tax exempt, submission of IRS Form 990-series forms, bylaws, and articles of incorporation;

• Internal financial control documentation for the organization;

• Recordkeeping requirements documenting accountability for donations and expenditures;

• Documentation providing assurance that donations, revenues, and expenditures benefit the applicable refuge or hatchery;

• Annual performance reporting (donations, revenues, and expenditures) and number of memberships (if applicable);

• Additional information that may be included as part of quarterly, annual, and in-depth program reviews; and

• Information related to fundraising agreements for activities described in 212 FW 8.

Over the life of this clearance, the Service plans to develop a digital platform and process to collect information directly from Friends groups. Until that occurs, Friends groups will submit information through form and non-form responses.

Proposed Revisions to This Information Collection

With this submission, we are proposing the following revisions to the existing information collection:

1. (New) National Friends Program: Friends Academy Application (Form 3-2565)—The Service will use the Friends Academy Application form with the Friends Academy, an advanced training program for board members and staff of Friends organizations who are beyond the formative stages of development. The overarching purpose of the Academy is to cultivate emerging Friends leaders by providing a broader understanding of the Service and enhancing skills to increase the effectiveness of Friends/Service partnerships.

This program will be exclusively offered to Friends board members and staff who have been serving for at least 1 year. In addition, people who have at least 2 years of involvement as Friends members or volunteers may be considered. People eligible for the program fall into two application pools—Service staff or other Friends may nominate a Friend, or a Friend may self-nominate. These application forms will be completed and submitted directly to the National Friends Coordinator specified in the “Application Submission Instructions” section.

• Part I (Region and Application Type) of each application simply gathers the servicing regional office and specifies the type of nomination (Self-nomination or Staff nominating a Friend) that dictates which sections will be filled out.

• Part II (Self-Nomination) and Part III (Nominating a Friend) both gather basic information to identify the nominee (name, address, phone number, and email address) and specify the nominee's baseline credentials for gaining entry to the Academy program (Friends organization affiliation, years of affiliation, Service programs supported, volunteer history, board position, committees served). In addition, these sections also solicit professional information that helps the Academy's selection personnel evaluate the nominee's merits as a candidate. Each of these parts gather identical information regarding the nominee.

• Part IV (Required Service Site or Program Manager Endorsement and Signature) requires gathering endorsements and signatures from both the nominee's Service Site Program Manager and from a member of the nominee's Friends Organization.

• Part V (Required Service Site or Program Manager Endorsement and Signature Continued) compiles the signatures of all the individuals involved in preparing the application: self-applicant or nominating official, project leader or manager, and Friends Organization representative.

2. (New) National Friends Program: Friends Mentoring Visit Form (Form 3-2566)—Friends groups will use the Mentoring Visit Form to request a mentor visit. The form is completed by the Friends group, but the Service staff at the field station which the Friends support must be consulted and must sign the form before it is submitted to Service headquarters.

3. (New) National Friends Program: Friends Mentor Application (Form 3-2567)—The National Friends Mentoring Program will be open to both Service staff and members of the public (e.g., retired Service Employees, Friends members). Applicants will volunteer to serve in a cadre of trained mentor professionals. These professionals will use the National Friends Program Mentor Application form to apply to enter into mentoring relationships with current Friends groups who request this service. The mentor relationship typically lasts for one full year and involves an on-site visit to the Friends group and Service site which the Friends group supports in an official capacity (i.e., has a Friends Partnership Agreement). The Service generally issues a call for mentor applications every 3 to 5 years, at most.

4. (Revised) Internal Financial Control Documentation (Forms 990 or 990-EZ Filers)—We reduced the number of respondents specific to this requirement to reflect only those Friends groups that file Forms 990 or 990-EZ. Tax information for this collection will be retrieved by Service members from information published on the IRS website and not requested from Friends groups.

5. (New) Internal Financial Control Documentation (Forms 990-N or Postcard Filers)—About 80 percent of the Service's Friends groups are very small, each with annual gross receipts totaling $50,000 or less. This means that they do not file a 990 or 990-EZ (the Internal IRS forms on which organizations must declare all donations and revenues). Rather, these smaller groups, which represent most of our partners, are required to file only the 990-N, or e-Postcard. The 990-N or e-Postcard simply asks for confirmation that the organization has annual gross receipts totaling $50,000 or less. Collection of this information, per the OIG audit, from Friends groups filing the 990-N or ePostcard is not duplicative of what the IRS requires from 80 percent of our Friends groups, nor is it publicly available information on the IRS website. Therefore, we need to request this information on our Annual Report (for only those small entities filing the 990-N or e-Postcard).

Title of Collection: U.S. Fish and Wildlife Service Agreements with Friends Organizations.

OMB Control Number: 1018-0193.

Form Numbers: 3-2565 through 3-2567.

Type of Review: Revision of a currently approved collection.

Respondents/Affected Public: Friends Groups of the National Wildlife Refuge System.

Total Estimated Number of Annual Respondents: 1,693.

Total Estimated Number of Annual Responses: 1,693.

Estimated Completion Time per Response: Varies from 2 hours to 40 hours, depending on activity.

Total Estimated Number of Annual Burden Hours: 20,285.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2024-08517 Filed 4-19-24; 8:45 am]

BILLING CODE 4333-15-P